DEPARTMENT OF COMMERCE

International Trade Administration

Hofstra University, et al.; Notice of Consolidated Decision on Applications for Duty-Free Entry of Electron Microscope

This is a decision consolidated pursuant to Section 6(c) of the Educational, Scientific, and Cultural Materials Importation Act of 1966 (Pub. L. 89-651, as amended by Pub. L. 106-36; 80 Stat. 897; 15 CFR part 301). Related records can be viewed between 8:30 a.m. and 5:00 p.m. in Room 3720, U.S. Department of Commerce, 14th and Constitution Avenue NW., Washington, DC

Docket Number: 13-053. Applicant: Hofstra University, Hempstead, NY 11549. Instrument: Electron Microscope. Manufacturer: FEI Company, Czech Republic. Intended Use: See notice at 79 FR 18013, March 31, 2014.

Docket Number: 14-006. Applicant: Columbia University, New York, NY 10027. Instrument: Electron Microscope. Manufacturer: FEI Company, the Netherlands. Intended Use: See notice at 87 FR 25831, May 6, 2014.

Docket Number: 14-007. Applicant: University of California, Davis, Davis, CA 95616. Instrument: Electron Microscope. Manufacturer: FEI Company, Czech Republic. Intended Use: See notice at 87 FR 25831-32, May 6, 2014.

Docket Number: 14-008. Applicant: California Institute of Technology, Pasadena, CA 91125. Instrument: Electron Microscope. Manufacturer: FEI Company, Czech Republic. Intended Use: See notice at 79 FR 25831-32, May 6, 2014.

Docket Number: 14-010. Applicant: Dana Farber Cancer Institute, Boston, MA 02215. Instrument: Electron Microscope. Manufacturer: FEI Company, the Netherlands. Intended Use: See notice at 79 FR 25831-32, May 6, 2014.

Comments: None received. Decision: Approved. No instrument of equivalent scientific value to the foreign instrument, for such purposes as this instrument is intended to be used, is being manufactured in the United States at the time the instrument was ordered. Reasons: Each foreign instrument is an electron microscope and is intended for research or scientific educational uses requiring an electron microscope. We know of no electron microscope, or any other instrument suited to these purposes, which was being manufactured in the United States at the time of order of each instrument.

Dated: July 17, 2014.
Gregory W. Campbell,
Director, Subsidies Enforcement Office, Enforcement and Compliance.

[FR Doc. 2014-17346 Filed 7-22-14; 8:45 am]

BILLING CODE 3510-DS-P